EXPORT-IMPORT BANK

Application for Final Commitment for a Long-Term Loan or Financial Guarantee in Excess of $100 Million: AP088936XX; Withdrawal

AGENCY: Export-Import Bank of the United States.

ACTION: Notice; withdrawal.

SUMMARY: This Notice is to inform the public of the withdrawal of an invalid notice published on December 30, 2014 at 79 FR 78433.

DATES: As of January 6, 2015 the notice published December 30, 2014 at 79 FR 78433 are withdrawn.

Reference: AP088936XX.

Lloyd Ellis,
Program Specialist, Office of the General Counsel.

[FR Doc. 2014-30941 Filed 1-5-15; 8:45 am]

BILLING CODE 6690-01-P